ENVIRONMENTAL PROTECTION AGENCY

[EPA-HQ-OAR-2009-0295; FRL-8936-7]

Agency Information Collection Activities; Submission to OMB for Review and Approval; Comment Request; Inclusion of Delaware and New Jersey in the Clean Air Interstate Rule (Renewal); EPA ICR No. 2184.03, OMB Control No. 2060-0584

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before August 28, 2009.

ADDRESSES: Submit your comments, referencing Docket ID No. EPA-HQ-OAR-2009-0295, to (1) EPA online using http://www.regulations.gov (our preferred method), by e-mail to a-and-r-docket@epamail.epa.gov, or by mail to: EPA Docket Center, Environmental Protection Agency, Air and Radiation Docket and Information Center, Mailcode 28221T, 1200 Pennsylvania Ave., NW, Washington, DC 20460, and (2) OMB by mail to: Office of Information and Regulatory Affairs, Office of Management and Budget (OMB), Attention: Desk Officer for EPA, 725 17th Street, NW., Washington, DC 20503.

FOR FURTHER INFORMATION CONTACT: Karen VanSickle, Clean Air Markets Division, Office of Air and Radiation, (6204J), Environmental Protection Agency, 1200 Pennsylvania Ave., NW., Washington, DC 20460; telephone number: 202-343-9220; fax number: 202-343-2361; e-mail address: vansickle.karen@epa.gov.

SUPPLEMENTARY INFORMATION: EPA has submitted the following ICR to OMB for review and approval according to the procedures prescribed in 5 CFR 1320.12. On May 11, 2009 (74 FR 21802), EPA sought comments on this ICR pursuant to 5 CFR 1320.8(d). EPA received no comments. Any additional comments on this ICR should be submitted to EPA and OMB within 30 days of this notice.

EPA has established a public docket for this ICR under Docket ID No. EPA-HQ-OAR-2009-0295, which is available for online viewing at http://www.regulations.gov, or in-person viewing at the Air and Radiation Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air and Radiation Docket is 202-566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or on paper, will be made available for public viewing at http://www.regulations.gov as EPA receives them and without change, unless the comment contains copyrighted material, confidential business information (CBI), or other information whose public disclosure is restricted by statute. For further information about the electronic docket, go to http://www.regulations.gov.

Title: Inclusion of Delaware and New Jersey in the Clean Air Interstate Rule (Renewal).

ICR numbers: EPA ICR No. 2184.03, OMB Control No. 2060-0584.

ICR Status: This ICR is scheduled to expire on July 31, 2009. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The United States (U.S.) Environmental Protection Agency (EPA) promulgated a rule to add the States of Delaware and New Jersey to the States that are subject to the Clean Air Interstate Rule (CAIR) because of their PM2.5 impact on other States and to require that Delaware and New Jersey report all of the emissions-related data required by CAIR. (Delaware and New Jersey are already affected by ozone-related requirements in CAIR.) These emissions data reporting requirements include reporting requirements and combine these reporting requirements with existing requirements from the Consolidated Emissions Reporting Rule (CERR), the Emission Reporting Requirements for Ozone State Implementation Plan (SIP) Revisions Relating to Statewide Budgets for NOX Emissions to Reduce Regional Transport of Ozone (NOX SIP Call), the Acid Rain Program under Title IV of the CAA Amendments of 1990, and the Rule to Reduce Interstate Transport of Fine Particulate Matter and Ozone (Clean Air Interstate Rule, CAIR). Each of these four existing requirements has an approved ICR in place. The current ICRs are: for the CERR, EPA ICR 0916.12 (OMB 2060-0088), for the NOX SIP Call, EPA ICR 1857.04 (OMB 2060-0445), for the Acid Rain Program, EPA ICR 1633.14 (OMB 2060-0258), and for CAIR, EPA ICR 2152.03 (OMB 2060-0570).

Burden Statement: The annual public reporting and recordkeeping burden for this collection of information is estimated to average 4 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Electric utilities, Industrial sources, and State Governments.

Estimated Number of Respondents: 62.

Frequency of Response: on occasion, quarterly, and annually.

Estimated Total Annual Hour Burden: 2,334.

Estimated Total Annual Cost: $235,925, which includes $20,300.00 in annualized capital or O&M costs.

Changes in the Estimates: There is a decrease of 208 hours in the total estimated burden currently identified in the OMB Inventory of Approved ICR Burdens. This decrease is due to adjustments to the estimates reflecting the current requirements of the program.

Dated: July 23, 2009.
John Moses,
Director, Collection Strategies Division.

[FR Doc. E9-18002 Filed 7-28-09; 8:45 am]

BILLING CODE 6560-50-P